NUCLEAR REGULATORY COMMISSION

[Louisiana License Nos. LA-0577-L01; LA-7112-L01; LA-10207-L01]

Request for Exemption From 10 CFR 34.20, Performance Requirements for Industrial Radiography Equipment; Environmental Assessment, Finding of No Significant Impact, and Notice of Opportunity for a Hearing

The U.S. Nuclear Regulatory Commission is considering authorizing Global X-ray & Testing Corporation, Bayou Testing Services Inc, Accurate NDE & Inspection L.L.C., and others an exemption to use pipeliner style radiography devices on lay barges in the Gulf of Mexico.

Environmental Assessment

Identification of the Proposed Action

Global X-ray & Testing Corporation, Morgan City, Louisiana; Bayou Testing Services, Inc, Amelia, Louisiana; Accurate NDE & Inspection L.L.C., Opelousas, Louisiana, (the applicants) are licensed by the State of Louisiana to conduct industrial radiography operations. They have requested, in letters dated July 11, 2000, August 28, 2000, and September 18, 2000, respectively, that the United States Nuclear Regulatory Commission (NRC) grant them reciprocity, and an exemption from 10 CFR 34.20(a)(1), to use their pipeliner type radiography cameras (pipeliners) for pipeline radiography, on lay barges, in areas under exclusive Federal jurisdiction, within the Gulf of Mexico. Pipeliners are older model radiography cameras that do not meet the requirements of 10 CFR 34.20(a)(1). These regulations require equipment, used in industrial radiographic operations, to meet the requirements in ANSI N432-1980 ¹. Each of the applicants are allowed to conduct similar operations in the State of Louisiana under an exemption granted in their state licenses, and they are requesting NRC exemptions under 10 CFR 150.20 “Recognition of Agreement States Licenses” (Reciprocity).

¹“Radiological Safety for the Design and Construction of Apparatus for Gamma Radiography (ANSI N432-1980),” (published as NBS Handbook 136, issued January 1981).

Need for the Proposed Action

The exemption is needed so that the applicants can conduct pipeline radiography on lay barges. The applicants contend that due to the design of the lay barges, and the limited space available, the pipeliner is the only device of its kind that will keep up with production rate on a lay barge, while at the same time provide a safe working environment for their radiographers and barge personnel.

Environmental Impacts of the Proposed Action

There will be no significant environmental impact from the proposed action due to the fact that no radioactive material is being released into the environment, and all of the radioactive material is wholly contained within the radiography camera, which is only used in an enclosed radiography stall on a lay barge.

During normal operation the external radiation dose levels will not be significantly greater than an approved radiography camera's normal operating external radiation dose levels. Compensatory safety measures will be in place at all times during the operation of the pipeliner device.

Alternatives to the Proposed Action

As required by section 102(2)(E) of NEPA (42 U.S.C. 4322(2)(E)), possible alternatives to the final action have been considered. The only alternative is to deny the exemption. This option was not considered practical, and there would be no gain in protecting the human environment. Denying the exemption request would force the applicants to revert to radiography cameras that are designed to meet ANSI N432-1980, but, according to the applicants, these cameras would not be easily adaptable to lay barge operations. The newer cameras would be similar to the pipeliners in that their radioactive material is housed as a sealed source and there would be no release of material to the environment. However, the newer cameras have associated equipment, such as a drive cable and guide tube, that would require additional space to perform radiography on pipelines. According to the applicant, this equipment becomes cumbersome and may get in the way as the pipe is moved through the lay barge. In the newer devices, the sealed source would have to be cranked out of the shielded position in the camera housing through a guide tube to the exposure head location where the radiograph takes place. Because this “crank out” action causes the source to be unshielded while the source is cranked out to the exposure head, the “restricted area” boundary must be increased and could cause a greater potential exposure to non-radiography personnel on the lay barge.

Alternative Use of Resources

No alternative use of resources was considered due to the reasons stated above.

Agencies and Persons Consulted

The State of Louisiana was contacted by telephone on 04/18/01 regarding this proposed action. The State of Louisiana did not object to the proposed action and had no additional comments.

Identification of Sources Used

Letters from the applicants to U.S. Nuclear Regulatory Commission, Region IV, Re: Global X-ray & Testing Corporation, Louisiana License No. LA-0577-L01, July 11, 2000; Bayou Testing Services Inc., Louisiana License No. LA-7112-L01, August 28, 2000; Accurate NDE & Inspection L.L.C., Louisiana License No. LA-10207-L01, September 18, 2000.

Finding of No Signiticant Impact

Based on the above environmental assessment, the Commission has concluded that environmental impacts that would be created by the proposed action would not have a significant effect on the quality of the human environment and does not warrant the preparation of an Environmental Impact Statement. Accordingly, it has been determined that a Finding of No Significant Impact is appropriate.

The applicants applications are available for inspection and copying for a fee in the Region IV Public Document Room, 611 Ryan Plaza Drive, Suite 400, Arlington, TX 76011-8064. The documents may also be viewed in the Agency-wide Documents Access and Management System (ADAMS) located on the NRC website at www.nrc.gov.

Opportunity for a Hearing

Any person whose interest may be affected by the issuance of this action may file a request for a hearing. Any request for hearing must be filed with the Office of the Secretary, U.S. Nuclear Regulatory Commission, Washington, DC 20555, within 30 days of the publication of this notice in the Federal Register; be served on the NRC staff (Executive Director for Operations, One White Flint North, 11555 Rockville Pike, Rockville, Maryland 20852), and on the applicants, Global X-ray & Testing Corporation, PO Box 1536, Morgan City, Louisiana 70381; Bayou Testing Services Inc, PO Box 1065, Amelia, Louisiana 70340; Accurate NDE & Inspection L.L.C., P.O. Box 1298, Opelousas, Louisiana 70571-1298 and must comply with the requirements for requesting a hearing set forth in the Commission's regulations, 10 CFR Part 2, Subpart L, “Information Hearing Procedures for Adjudications in Materials Licensing Proceedings.”

These requirements, which the request must address in detail, are:

1. The interest of the requestor in the proceeding;

2. How that interest may be affected by the results of the proceeding (including the reasons why the requestor should be permitted a hearing);

3. The requestor's areas of concern about the licensing activity that is the subject matter of the proceeding; and

4. The circumstances establishing that the request for hearing is timely—that is, filed within 30 days of the date of this notice.

In addressing how the requestor's interest may be affected by the proceeding, the request should describe the nature of the requestor's right under the Atomic Energy Act of 1954, as amended, to be made a party to the proceeding; the nature and extent of the requestor's property, financial, or other (i.e., health, safety) interest in the proceeding; and the possible effect of any order that may be entered in the proceeding upon the requestor's interest.

Dated at Rockville, Maryland, this 9th day of May, 2001.
For the Nuclear Regulatory Commission.
John W.N. Hickey,
Chief, Materials Safety and Inspection Branch, Division of Industrial and Medical Nuclear Safety, Office of Nuclear Material Safety and Safeguards.

[FR Doc. 01-12339 Filed 5-15-01; 8:45 am]

BILLING CODE 7590-01-P